DEPARTMENT OF THE TREASURY

Customs Service

[T.D. 01-90]

Revocation of Customs Broker License

AGENCY: U.S. Customs Service, Department of the Treasury.

ACTION: Customs broker license revocation.

SUMMARY: Pursuant to section 641 of the Tariff Act of 1930 as amended (19 USC 1641) and the Customs Regulations [19 CFR 111.45(a)], the following Customs broker license is revoked by operation of law.

Name: The Maritime Company for Navigation.

License: 20115.

Port: Charlotte.

Dated: December 8, 2001.
Bonni G. Tischler,
Assistant Commissioner, Office of Field Operations.

[FR Doc. 01-31390 Filed 12-19-01; 8:45 am]

BILLING CODE 4820-02-P